DEPARTMENT OF JUSTICE

Notice of Lodging of Consent Decree Under the Oil Pollution Act (“OPA”)

Notice is hereby given that on July 20, 2007, a proposed Consent Decree in United States v. Texmo Oil Company Jobbers, Inc., Civil Action No. 2:07-cv-01401-DKD (D. Ariz.), was lodged with the United States District Court for the District of Arizona. The proposed Consent Decree resolves the United States' claim against Texmo Oil Company Jobbers, Inc. (“Texmo”), for natural resources damages under the Oil Pollution Act, 33 U.S.C. Sections 2701-2761, relating to a spill of approximately 7,700 gallons of diesel fuel into the Bill Williams River National Wildlife Refuge in Arizona. The Consent Decree requires Texmo to pay to $1,217,382.91 to the United States for damages for injuries to natural resources that resulted from the spill.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. Texmo Oil Company Jobbers, Inc., D.J. Ref. 90-5-1-1-09082.

The proposed Consent Decree may be examined at the Office of the Solicitor, Phoenix Field Office, U.S. Department of the Interior, 401 W. Washington Street SPC 44, Suite 404, Phoenix, AZ 85003-2151. During the public comment period, the Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. In requesting a copy from the Consent Decree Library, please enclose a check in the amount of $4.25 (25 cents per page reproduction cost) payable to the “U.S. Treasury” or, if by e-mail or fax, forward a check in that amount to the Consent Decree Library at the stated address.

Henry S. Friedman,
Assistant Section Chief, Environmental Enforcement Section, Environment and Natural Resources Division.

[FR Doc. 07-3752 Filed 7-31-07; 8:45 am]

BILLING CODE 4410-15-M